FEDERAL COMMUNICATIONS COMMISSION

Information Collection Requirements Being Submitted to the Office of Management and Budget for Emergency Review and Approval

AGENCY: Federal Communications Commission.

ACTION: Notice and request for comments.

SUMMARY: As part of its continuing effort to reduce paperwork burdens, and as required by the Paperwork Reduction Act (PRA) of 1995 (44 U.S.C. 3501-3520), the Federal Communication Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written comments should be submitted on or before July 31, 2014. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the Supplementary Information section below.

FOR FURTHER INFORMATION CONTACT: For additional information or copies of the information collection, contact Cathy Williams at (202) 418-2918.

SUPPLEMENTARY INFORMATION: The Commission is requesting emergency OMB processing of the information collection requirements contained in this notice and has requested OMB approval by 20 days after the collection is received at OMB.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

OMB Control Number: 3060-1053.

Title: Two-Line Captioned Telephone Order, IP Captioned Telephone Service Declaratory Ruling; and Internet Protocol Captioned Telephone Service Reform Order, CG Docket Nos. 13-24 and 03-123.

Form Number: N/A.

Type of Review: Revision of a currently approved collection.

Respondents: Business or other for-profit entities.

Number of Respondents and Responses: 186,005 respondents; 745,280 responses.

Estimated Time per Response: .25 hours (15 minutes) to 20 hours.

Frequency of Response: Annual, every five years, on-going, and one-time reporting requirements; Recordkeeping requirement; Third party disclosure requirement.

Obligation to Respond: Required to obtain or retain benefits. The statutory authority for the information collection requirements is found at Sec. 225 [47 U.S.C. 225] Telecommunications Services for Hearing-Impaired Individuals; The Americans with Disabilities Act of 1990, (ADA), Pub. L. 101-336, 104 Stat. 327, 366-69, was enacted on July 26, 1990.

Total Annual Burden: 542,252 hours. Total Annual Cost: $1,008,000.

Nature and Extent of Confidentiality: An assurance of confidentiality is not offered because this information collection does not require the collection of personally identifiable information by the FCC from individuals.

Privacy Impact Assessment: No impact(s).

Needs and Uses: On August 1, 2003, the Commission released the Declaratory Ruling, In the Matter of Telecommunication Relay Services and Speech-to-Speech Services for Individuals with Hearing and Speech Disabilities, CC Docket No. 98-67, published at 68 FR 55898, September 28, 2003. In the Declaratory Ruling, the Commission clarified that one-line captioned telephone voice carry over (VCO) service is a type of telecommunications relay service (TRS) and that eligible providers of such services are eligible to recover their costs in accordance with section 225 of the Communications Act. The Commission also clarified that certain TRS mandatory minimum standards do not apply to one-line captioned telephone VCO service and waived 47 CFR 64.604(a)(1) and (a)(3) for all current and future captioned telephone VCO service providers, for the same period of time beginning August 1, 2003. The waivers were contingent on the filing of annual reports, for a period of three years, with the Commission. Sections 64.604 (a)(1) and (a)(3) of the Commission's rules, which contained information collection requirements under the PRA, became effective on March 26, 2004.

On July 19, 2005, the Commission released an Order, In the Matter of Telecommunication Relay Services and Speech-to-Speech Services for Individuals with Hearing and Speech Disabilities, CC Docket No. 98-67 and CG Docket No. 03-123, published at 70 FR 54294, September 14, 2005, clarifying that two-line captioned telephone VCO service, like one-line captioned telephone VCO service, is a type of TRS eligible for compensation from the Interstate TRS Fund. Also, the Commission clarified that certain TRS mandatory minimum standards do not apply to two-line captioned VCO service and waived 47 CFR 64.604(a)(1) and (a)(3) for providers who offer two-line captioned VCO service.

On January 11, 2007, the Commission released a Declaratory Ruling, In the Matter of Telecommunications Relay Services and Speech-to-Speech Services for Individuals with Hearing and Speech Disabilities, CG Docket No. 03-123, published at 72 FR 6960, February 14, 2007, granting a request for clarification that Internet Protocol (IP) captioned telephone relay service (IP CTS) is a type of TRS eligible for compensation from the Interstate TRS Fund (Fund) when offered in compliance with the applicable TRS mandatory minimum standards.

On August 26, 2013, the Commission issued a Report and Order, In the Matter of Misuse of Internet Protocol (IP) Captioned Telephone Service; Telecommunications Relay Services and Speech-to-Speech Services for Individuals with Hearing and Speech Disabilities, CG Docket Nos. 13-24 and 03-123, published at 78 FR 53684, August 30, 2013, to regulate practices relating to the marketing of IP CTS, impose certain requirements for the provision of this service, and mandate registration and certification of IP CTS users. The Commission published a notice in the Federal Register pursuant to 5 CFR 1320.8(d) on September 25, 2013 (78 FR 59025), seeking comments from the public on the information collection requirements contained in the initial supporting statement. Sorenson Communications, Inc., and its subsidiary CaptionCall, LLC (together, CaptionCall), filed comments on November 25, 2013, regarding the user registration and certification requirements adopted in the Report and Order as well as the certification, recordkeeping, and reporting requirements for hardship exemptions to the captions-off default setting requirement, also adopted in the Report and Order. CaptionCall did not comment on the other collections adopted in the Report and Order.

Subsequently, on December 6, 2013, the United States Court of Appeals for the District of Columbia Circuit stayed “the rule adopted by the Commission [in the Report and Order] prohibiting compensation to providers for minutes of use generated by equipment consumers received from providers for free or for less than $75.” Sorenson Communications, Inc. and CaptionCall, LLC v. FCC, Order, D.C. Cir., No. 13-1246, December 6, 2013, at 1-2. (For convenience, this notice refers to the requirement subject to the stay as “the $75 equipment charge rule.”) In the revised supporting statement, the Commission sought OMB approval of the following requirements adopted in the Report and Order: (1) The requirements regarding the labeling of equipment, software and mobile applications; (2) the certification, recordkeeping, and reporting requirements for the hardship exemption to the captions default-off requirement; and (3) an additional information reporting requirement for IP CTS applicants that seek Commission certification to provide IP CTS and for IP CTS providers, requiring applicants to provide assurance that they will not request or collect payment from the TRS Fund for service to consumers who do not satisfy the Commission's IP CTS registration and certification requirements. Because the registration and certification requirements adopted in the Report and Order are related to the $75 equipment charge rule that was stayed by the court of appeals, the Commission did not seek OMB approval of those requirements at that time. See 79 FR 23354, April 28, 2014.

On June 18, 2014, OMB approved, for a period of three years, the information collection requirements specified above that are contained in the Commission's Report and Order, FCC 11-118, published at 78 FR 53684, August 30, 2013. The OMB Control Number is 3060-1053.

On June 20, 2014, the D.C. Circuit vacated the $75 equipment charge rule and the rule requiring providers to maintain captions-off as the default setting for IP CTS equipment. Sorenson Communications, Inc. and CaptionCall, LLC v. FCC (D.C. Cir., Nos. 13-1122 and 13-1246, June 20, 2014).

On July 11, 2014, the Commission published a notice in the Federal Register a notification that information collection requirements (1) regarding the labeling of equipment, software and mobile applications; (2) the certification, recordkeeping, and reporting for the hardship exemption to the captions default-off requirement; and (3) for IP CTS applicants that seek Commission certification to provide IP CTS and for IP CTS providers to provide assurance that they will not request or collect payment from the TRS Fund for service to consumers who do not satisfy the Commission's IP CTS registration and certification requirements would become effective immediately. Because the court had not yet issued its mandate, the captions-off default requirement, 47 CFR 64.604(c)(10)(i), (ii), (iii), and (v), remained in effect, and the certification, recordkeeping, and reporting requirements for the hardship exemption to the captions default-off requirement, 47 CFR 64.604(c)(10)(iv), became effective at that time.

This notice and request for comments pertains to the user registration and certification requirements adopted in the IP CTS Reform Order. Specifically, IP CTS providers are required to obtain from new and existing IP CTS consumers self-certification of hearing loss necessitating the use of IP CTS and their understanding of the IP CTS program. In addition, existing IP CTS consumers with free or de minimis cost equipment must further submit professional certification. 47 CFR 64.604(c)(9).

Federal Communications Commission.
Marlene H. Dortch,
Secretary, Office of the Secretary, Office of the Managing Director.

[FR Doc. 2014-16621 Filed 7-15-14; 8:45 am]

BILLING CODE 6712-01-P